DEPARTMENT OF DEFENSE

Department of the Army, Corps of Engineers

Intent To Prepare a Draft Environmental Impact Statement (DEIS) for the Las Americas Transshipment Port Complex Being Proposed by the Puerto Rico Infrastructure Financing Authority (AFI, Acronym in Spanish)

AGENCY: U.S. Army Corps of Engineers, DoD.

ACTION: Notice of intent.

SUMMARY: AFI is proposing the development of the Las Americas Transshipment Port Complex in Puerto Rico. The proposal includes the development of hubs at one or more sites on the south coast of Puerto Rico, in the Municipalities of Ponce, Peñuelas, and Guayanilla. At the proposed site(s), the proposed terminals would need Section 10 of the Rivers and Harbors Act and Section 404 of the Clean Water Act permits. There is a possibility that permits pursuant to Section 103 of the Marine Protection, Research and Sanctuaries Act may be required for at one or more sites.

FOR FURTHER INFORMATION CONTACT: Edwin E. Muñiz, (787) 729-6905/6944, Chief, Antilles Regulatory Section, U.S. Army Corps of Engineers, 400 Fernandez Juncos Avenue, San Juan, Puerto Rico 00901.

SUPPLEMENTARY INFORMATION: In September 1999, the Corps of Engineers published a report titled Preliminary Transshipment Port Assessment for Puerto Rico. This study was performed at the request of the Puerto Rico Ports Authority (PRPA). This report includes a preliminary assessment of alternative sites for a potential new transshipment port to be located in Puerto Rico. The sites considered were locations that have the potential to support deep-draft navigation and associated facilities. A total of thirteen sites were considered. The assessment was based on available information combined with the professional knowledge of the Corps of Engineers, Jacksonville District staff, in the planning of waterway systems and associated port development. The assessment was considered preliminary in nature, and it was not prepared to be used as the sole source of information from which to make a final site selection. Nevertheless, the assessment made a recommendation on the most suitable sites. The assessment also recommended further studies that will help provide the additional detailed information required for making a more informed decision concerning the most appropriate location for a future transshipment site.

AFI is proposing the development of the Las Americas Transshipment Port Complex in Puerto Rico. The proposal includes the development of hubs at one or more sites on the south coast of Puerto Rico, in the Municipalities of Ponce, Peñuelas and Guayanilla. AFI stated that a transshipment port complex would represent a major infrastructure development for all Puerto Rico, especially in the south coast of the island.

In the development of a transshipment port complex, there would be considerable dredge and fill activities in the proposed project area, impacting significant wetlands and other special aquatic sites, and other resources. The proposed action may significantly affect the pattern and type of land use (industrial, commercial, agricultural, recreational, residential) and/or growth and distribution of population, may have significant adverse effects on wetlands, including indirect and cumulative effects, or any major part of a structure or facility constructed or operated under the proposed action may be located in wetlands. Also, the proposed action may significantly affect threatened and endangered species or their habitats identified in the Department of the Interior's list.

Pursuant to Section 10 of the Rivers and Harbors Act structures the Corps of Engineers has regulatory authority over structures and/or work in or affecting navigable waters of the United States. under Section 404 of the Clean Water Act, the Corps of Engineers has regulatory authority to permit the discharge of dredged or fill material into wetlands and other waters of the United States. Also, under Section 103 of the Marine Protection, Research and Sanctuaries Act, the Corps of Engineers has regulatory authority over the transportation of dredged material for the purpose of dumping it in ocean waters at dumping sites designated under 40 CFR part 228. The guidelines pursuant to section 404(b) of the act require that impacts to the aquatic environment be avoided and minimized to the extent practicable. Permit applications for the transportation of dredged material for the purpose of dumping it in ocean waters will be evaluated to determine whether the proposed dumping will unreasonably degrade or endanger human health, welfare, amenities, or the marine environment, ecological systems or economic potentialities.

In determining whether to issue a permit, the Corps must also comply with other requirements including, but not limited to, the Endangered Species Act, the National Environmental Policy Act, the Coastal Zone Management Act, the Magnunson-Stevens Fishery Conservation and Management Act Section 401 of the Clean Water Act, and other applicable Federal laws. Modifying land for new uses also involves zoning, land use planning, water management, and other regulatory/planning requirements at the local, Commonwealth, and Federal level.

Alternatives: AFI has presented three alternatives for the development of a transshipment port in Puerto Rico. These alternatives are as follows:

Alternative 1: Immediate development of a deep draft navigation harbor at the Guayanilla and Ponce Bays to accommodate Post-Panamax vessels at both ports. In the Guayanilla Bay this alternative would entail the construction of a 6,000 feet long pier with support facilities capable of handling as many as four Post-Panamax vessels at Punta Guayanilla Peninsula; the discharge of fill material in approximately 110 acres of navigable waters in the Punta Gotay area, Punta Guayanilla Peninsula, for the development of loading-unloading storage area and other support facilities; the development of a 480 acre parcel owned by Union Carbide in Peñuelas adjoining Punta Guayanilla (where a petrochemical complex previously operated and recently selected by the Environmental Protection Agency for inclusion in the Brownfield RCRA Program) for added value activities (approximately 10 acres of wetlands would be filled for the development of value-added activities); and the development and/or improvement of other infrastructure within the Guayanilla Harbor needed to operate the Port efficiently. In Ponce this alternative would consist in the expansion of the existing piers to a length of about 3,000 feet to allow simultaneous handling of as many as two Post-Panamax vessels; the immediate dredging of the navigation channel and berthing areas to a minimum depth of 45 feet to allow the navigation of Post-Panamax vessels and the disposal of the dredged material at either the EPA designated ocean disposal site and/or uplands; and the development of a 90 acres of land adjacent to the port for value-added activities.

Alternative 2: Immediate development of a deep draft navigation harbor at the Guayanilla to handle Post-Panamax vessels and immediate improvements to the Port of Ponce to handle Panamax-class vessels and eventual dredging (5 to 10 years) of the navigation channel and berthing areas to further allow the Port of Ponce to handle Post-Panamax vessels. In the Guayanilla Bay this alternative would entail the construction of a 6,000 feet long pier with support facilities capable of handling as many as four Post-Panamax vessels at Punta Guayanilla Peninsula; the discharge of fill material in approximately 110 acres of navigable waters in the Punta Gotay area, Punta Guayanilla Peninsula, for the development of loading-unloading storage area and other support facilities; the development of a 480 acre parcel owned by Union Carbide in Peñuelas adjoining Punta Guayanilla (where a petrochemical complex previously operated and recently selected by the Environmental Protection Agency for inclusion in the Brownfield RCRA program) for added value activities (approximately 10 acres of wetlands would be filled for the development of value-added activities); and the development and/or improvement of other infrastructure within the Guayanilla Harbor needed to operate the Port efficiently. In Ponce, this alternative would consist of the expansion of the existing piers to a length of about 3,000 feet to initially allow Panamax-type vessels and eventually Post-Panamax vessels; the development of a 90 acres of land adjacent to the port for value-added activities; and the eventual or long-term dredging (5 to 10 years) of the navigation channel and berthing areas to a minimum depth of 45 feet to allow the navigation of Post-Panamax vessels and the disposal of the dredged material at either the EPA designated ocean disposal site and/or uplands.

Alternative 3: Immediate development of a deep draft navigation harbor at the Guayanilla to handle Post-Panamax vessels and immediate rehabilitation of the Port of Ponce to handle Panamax-class vessels. In the Guayanilla Bay this alternative would entail the construction of a 6,000 feet long pier with support facilities capable of handling as many as four Post-Panamax vessels at Punta Guayanilla Peninsula; the discharge of fill material in approximately 110 acres of navigable waters in the Punta Gotay area, Punta Guayanilla Peninsula, for the development of loading-unloading storage area and other support facilities; the development of a 480 acre parcel owned by Union Carbide in Peñuelas adjoining Punta Guayanilla (where a petrochemical complex previously operated and recently selected by the Environmental Protection Agency for inclusion in the Brownfield RCRA Program) for added value activities (approximately 10 acres of wetlands would be filled for the development of value-added activities); and the development and/or improvement of other infrastructure within the Guayanilla Harbor needed to operate the Port efficiently. In Ponce, this alternative would consist of the expansion of the existing piers to a length of about 3,000 feet to allow of Panamax-type vessels; and the development of a 90 acres of land adjacent to the port for value-added activities.

In addition to the above alternatives, the no action alternative and alternatives identified in the Corps of Engineers Preliminary Transshipment Port Assessment For Puerto Rico would also be considered, as well as any other alternative identified during scoping process.

Issues: The EIS will consider impacts on protected species, health, conservation, economics, aesthetics, general environmental concerns, wetlands (and other aquatic resources), historic properties, fish and wildlife values, flood hazards, floodplain values, land use, navigation, shoreline erosion and accretion, recreation, water supply and conservation, water quality, energy needs, safety, food and fiber production, mineral needs, considerations of property ownership, and, in general, the needs and welfare of the people, and other issues identified through scoping, public involvement, and interagency coordination.

Scoping: On April 4, 2001, AFI conducted a transshipment port complex scoping technical meeting with Federal and state Agencies. Additional scoping meeting(s) will be held by the Corps of Engineers with Federal and State Agencies. At this time, there are no plans for a public scoping meeting. If a public scoping meeting is held by the Corps of Engineers, it will be announced. In addition Federal, state and local agencies, as well as interested private organizations and individuals are strongly encouraged to suggest additional alternatives for consideration and otherwise submit comments on the scope of the DEIS.

Public Involvement: We invite the participation of affected Federal, state, and local agencies, and other interested private organizations and individuals by submitting written comments to the information contact provided in this notice.

Coordination: The proposed action is being coordinated with a number of Federal, Commonwealth, and local agencies including but not limited to the following: U.S. Fish and Wildlife Service, National Marine Fisheries Service, U.S. Environmental Protection Agency, U.S. Coast Guard, Puerto Rico Department of Natural and Environmental Resources, Puerto Rico Environmental Quality Board, Puerto Rico Planning Board, Puerto Rico State Historic Preservation Officer, and other agencies as identified in scoping, public involvement, and agency coordination.

Other Environmental Review and Consultation: The proposed action would involve evaluation for compliance with guidelines pursuant to Section 404(b) of the Clean Water Act, public interest review, application for Water Quality Certification pursuant to Section 401 of the Clean Water Act, and determination of Coastal Zone Management Act consistency.

DEIS Preparation: We estimate that the DEIS will be available to the public on or about November 15, 2001.

Dated: August 20, 2001.
John R. Hall,
Chief, Regulatory Division.

[FR Doc. 01-21698 Filed 8-27-01; 8:45 am]

BILLING CODE 3710-AJ-M